DEPARTMENT OF HOMELAND SECURITY

[Docket No. DHS-2018-0027]

Committee Name: Homeland Security Academic Advisory Council

AGENCY: Department of Homeland Security.

ACTION: Notice of Federal Advisory Committee Reestablishment.

SUMMARY: The Secretary of Homeland Security has determined that the reestablishment of the Homeland Security Academic Advisory Council (HSAAC) is necessary and in the public interest in connection with the performance of her duties as Secretary of the U.S. Department of Homeland Security (DHS). This determination follows consultation with the Committee Management Secretariat, General Services Administration.

DATES: Interested persons are invited to submit comments by 15 days after publication of this notice.

ADDRESSES: If you desire to submit comments on this action, they must be submitted within 15 days after publication of Notice. Comments must be identified by Docket Number: DHS-2018-0027 and may be submitted by one of the following methods:

• Federal eRulemaking Portal: http://www.regulations.gov. Follow the instructions for submitting comments.

• Email: AcademicEngagement@hq.dhs.gov. Include the docket number DHS-2018-0027 in the subject line of the message. Include the docket number in the subject line of the message.

• Fax: 202-282-1044. Include “ATTN: Office of Academic Engagement” on the cover page of the document.

• Mail: Academic Engagement; Office of Academic Engagement/Mailstop 0385, Department of Homeland Security, 245 Murray Lane SW, Washington, DC 20528-0440.

Instructions: All submissions received must include the words “Department of Homeland Security” and docket number DHS-2017-0016. Comments received will be posted without alteration at http://www.regulations.gov, including any personal information provided.

Docket: For access to the docket, to read background documents or comments received by the Homeland Security Academic Advisory Council, go to http://www.regulations.gov and search for “Homeland Security Academic Advisory Council.”

FOR FURTHER INFORMATION CONTACT: Trent Frazier, Office of Academic Engagement/Mailstop 0385, Department of Homeland Security, 245 Murray Lane SW, Washington, DC 20528-0440, email: AcademicEngagement@hq.dhs.gov, tel: 202-447-4686 and fax: 202-282-1044.

SUPPLEMENTARY INFORMATION: For the reasons set forth below, the Secretary of Homeland Security has determined that the reestablishment of the HSAAC is necessary and in the public interest. This determination follows consultation with the Committee Management Secretariat, General Services Administration.

The HSAAC is being reestablished in accordance with the provisions of the Federal Advisory Committee Act (FACA) 5 U.S.C. App. (Pub. L. 92-463). The HSAAC will provide advice and recommendations to the Secretary and senior leadership on matters relating to student and recent graduate recruitment; international students; academic research; campus and community resiliency, security and preparedness; faculty exchanges; and cybersecurity.

Balanced Membership Plans: The HSAAC is composed of up to 23 members who are appointed by and serve at the pleasure of the Secretary of Homeland Security. To ensure a diverse, balanced membership on the HSAAC, the members serve as representatives, representing the viewpoints of institutions of higher education, community colleges, elementary and secondary education (K-12), school systems, and/or partnership groups.

Duration: Continuing.

Responsible DHS Official: Trent Frazier, AcademicEngagement@hq.dhs.gov, 202-447-4686.

Dated: May 1, 2018.
Trent Frazier,
Executive Director for Academic Engagement.

[FR Doc. 2018-09624 Filed 5-4-18; 8:45 am]

BILLING CODE 4410-10-P